DEPARTMENT OF VETERANS AFFAIRS

Advisory Committee: National Academic Affiliations Council, Notice of Meeting

The Department of Veterans Affairs (VA) gives notice under the Federal Advisory Committee Act, 5 U.S.C. ch. 10, that a meeting of the VA National Academic Affiliations Council (Council) will be held on September 25, 2024—September 26, 2024, at the New Mexico VA Health Care System (VAHCS), 1501 San Pedro Drive SE, Albuquerque, New Mexico 87108. The meeting sessions will begin and end as follows:

Date | Time | Location | Open session
September 25, 2024 | 9:00 a.m. to 5:00 p.m. Central Standard Time (CST) | New Mexico VA Health Care System, 1501 San Pedro Drive SE, Albuquerque, NM 87108 | Yes.
September 26, 2024 | 9:00 a.m. to 12:45 p.m. CST | New Mexico VA Health Care System, 1501 San Pedro Drive SE, Albuquerque, NM 87108 | No.

The meetings are open to the public, except when the Council is conducting tours of VA facilities. Tours of VA facilities are closed to protect Veterans' privacy and personal information, in accordance with 5 U.S.C sec. 552b(c)(6).

The purpose of the Council is to advise the Secretary on matters affecting partnerships between VA and its academic affiliates.

On September 25, 2024, the Council will begin the session with presentations from the New Mexico VAHCS on Academic Relationships and Albuquerque VA programs, and will receive additional updates on MISSION Act, section 403. In the afternoon, the Council will receive presentations from the New Mexico VAHCS programs and conduct a panel discussion with New Mexico VAHCS Chief residents. The Council will also receive updates from the Diversity in the Healthcare Workforce Subcommittee (DHWS), the Strategic Academic Advisory Council (SAAC), and the Clinician Educator Protected Time for Teaching Subcommittee for discussions and recommendations. The Council will receive public comments from 4:30 p.m. to 5:00 p.m. CST. The meeting will adjourn that day at 5:00 p.m. CST.

On September 26, 2024, the meeting session will be closed to the public, as the Council tours the University of New Mexico medical facilities. Tours of medical facilities are closed to protect privacy and personal information, in accordance with 5 U.S.C sec. 552b(c)(6). The meeting will adjourn at 12:45 p.m. CST.

Interested persons may attend and present oral statements to the Council on September 25, 2024, during the public comment period. The designated public dial in number to attend the conference is 872 701 0185. At the prompt, enter meeting ID 496 340 763#. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting to Ms. Nellie Mitchell, Designated Federal Officer, or at any time via email to nellie.mitchell@va.gov. Any member of the public wishing to attend or seeking additional information should contact Ms. Mitchell via email or by phone at 608-358-9902.

Dated: August 27, 2024.
Jelessa M. Burney,
Federal Advisory Committee Management Officer.

[FR Doc. 2024-19631 Filed 8-30-24; 8:45 am]

BILLING CODE 8320-01-P